NUCLEAR WASTE TECHNICAL REVIEW BOARD

Privacy Act of 1974; Systems of Records

AGENCY: U.S. Nuclear Waste Technical Review Board.

ACTION: Notice of modification to two existing systems of records.

SUMMARY: USC 552a requires that each federal agency review its systems of records containing personal information covered by the Privacy Act of 1974. As a result of its latest review, the Board is proposing to amend both of the systems of records that it maintains. A description of these systems was last published in November 22, 1996 (61 FR 227, 59472-59473). The Board has concluded that one system needs to be amended and that the second system needs to be expanded to include other information useful to the Board. In the first system, NWTRB-1 Administrative Files, some categories were overlooked in the previous notice. The Board is proposing to expand the second system, NWTRB-2 Mailing List, to become NWTRB-2 Contact List. The Board has determined that the changes to NWTRB-1 are imporant enough to republish the notice with the changes and that the changes to NWTRB-2 are substantial enough to accept comments on the proposed expansion.

DATES: Comments on the changes to NWTRB-2 should be received before January 15, 2007.

ADDRESSES: Comments on this proposed rule may be submitted as follows:

By mail or hand delivery: Joyce M. Dory, Director of Administration; U.S. Nuclear Waste Technical Review Board; 2300 Clarendon Blvd., Suite 1300; Arlington, VA 22201.

By Fax: 703-235-4495.

To the Federal eRulemaking Portal: http://www.regulations.gov.

Via the Board Web site at http://www.nwtrb.gov via the “contact us” function.

All comments on this proposed Privacy Act rule modification should be clearly identified as such.

FOR FURTHER INFORMATION CONTACT: Victoria Reich, 703-235-4473.

SUPPLEMENTARY INFORMATION: The Board currently maintains two systems of records, NWTRB-1 and NWTRB-2, that contain information covered by the Privacy Act of 1974. In its review of these systems, the Board has found classes of information that were not included in its previous notice and is republishing the first, NWTRB-1, with the corrections added. The Board further found that expanding the records in the second, NWTRB-2, would make it more useful.

List of Subjects

Administrative practice and procedure; Privacy; Reporting and recordkeeping requirements.

NWTRB-1

System name:

Administrative Files.

Security classification:

Unclassified.

System location:

U.S. Nuclear Waste Technical Review Board; 2300 Clarendon Boulevard, Suite 1300; Arlington, VA 22201.

Categories of individuals covered by the system:

Employees and applicants for employment with the Board, including NWTRB contractors and consultants.

Categories of records in the system:

Records containing the following information:

(1) Time and attendance;

(2) Payroll actions, direct deposit, and deduction information;

(3) Personnel actions, evaluations, and other data;

(4) Authorizations for overtime and night differential;

(5) Credit cards and telephone calling cards issued to individuals;

(6) Destination, itinerary, mode and purpose of travel;

(7) Date(s) of travel and all expenses;

(8) Passport number;

(9) Request for advance of funds and voucher with receipt;

(10) Travel authorizations;

(11) Name, address, Social Security number, and birth date;

(12) Employee public transit subsidy applications and vouchers;

(13) Security clearance information; and

(14) 450's.

Authority for maintenance of the system:

Public Law 100-203, Part E.

Routine uses of records maintained in the system:

Information is used “in house.” Notwithstanding the above, access also may be gained under the following conditions:

(a) In the event that a system of records maintained by this agency to carry out its functions indicates a violation or potential violation of law, whether civil, criminal, or regulatory in nature, and whether arising by general statute or particular program statute, or by regulation, rule, or order issued pursuant thereto, the relevant records in the system of records may be referred, as a routine use, to the appropriate agency, whether federal, state, local, or foreign, charged with the responsibility of investigating or prosecuting such violation or charged with enforcing or implementing the statutes, or rule, regulation, or order issued pursuant thereto.

(b) A record from the system of records may be disclosed as a “routine use” to a federal, state, or local agency maintaining civil, criminal, or other relevant enforcement information or other pertinent information, such as current licenses, if necessary to obtain information relevant to an agency decision concerning the hiring or retention of an employee, the issuance of a security clearance, the letting of a contract, or the issuance of a license, grant, or other benefit.

(c) A record from this system of records may be disclosed to a federal agency, in response to a request, in connection with the hiring or retention of an employee, the issuance of a security clearance, the reporting of an investigation of an employee, the letting of a contract, or the issuance of a license, grant, or other benefits by the requesting agency, to the extent that the information is relevant and necessary to the requesting agency's decision on the matter.

Policy and practices for storing, retrieving, accessing, retaining, and disposing of records in the system:

Storage:

Paper and electronic records.

Retrievability:

By type of document, then by name.

Safeguards:

Access is limited to employees having a need to know. Records containing personal information are stored in locked file cabinets in controlled-access areas or in password-protected electronic databases in accordance with federal guidelines.

Retention and disposal:

Record retention and disposal authorities are in “General Records Schedules” published by National Archives and Records Administration, Washington, D.C. Records within NWTRB are destroyed by shredding or purging.

System manager and address:

U.S. Nuclear Waste Technical Review Board; 2300 Clarendon Boulevard, Suite 1300; Arlington, VA 22201; Attention: Office of Administration.

Notification procedure:

Requests by an individual to determine if NWTRB-1 contains information about him/her should be directed to the Director of Administration, at the address listed above. Required identifying information: complete name, Social Security number, and date of birth.

Record-access procedure:

Same as notification procedures above, except individual must show official photo identification before viewing records.

Contesting-record procedure:

Same as notification procedure.

Record-source categories:

Subject individuals, timekeepers, travel officers, official personnel records, GSA for accounting and payroll, and travel agency contract.

System exempted from certain parts of the act:

None.

NWTRB-2

System Name:

Contact List.

System Classification:

Unclassified.

System Location:

U.S. Nuclear Waste Technical Review Board; 2300 Clarendon Boulevard, Suite 1300; Arlington, VA 22201.

Categories of individuals covered by the system:

The Board is proposing to expand the database containing its mailing list to include contact information on vendors, Board contractors and consultants, as well as officials and specialists working with the disposal of radioactive waste. Emergency information for Board personnel and their affiliates also would be included.

Categories of records in the system:

In addition to the mailing list, the database would be expanded to include Board contacts in the nuclear program in the United States and abroad; vendors of products used by, or of potential use to the Board; Board contractors and consultants; and emergency information on both Board and staff members.

Authority for maintenance of the files:

Public Law 100-203, Part E.

Routine uses of the records maintained in the system, including categories of users and the purposes of such use:

Distribution of Board reports, newsletters, meeting transcripts, and press releases. Information for contacting specialists and officials in the disposal of radioactive waste. Information on vendors, contractors, and consultants that the Board may use or consider using. Contact information on Board members and staff for use in emergencies. All information can be accessed only by appropriate Board staff. Notwithstanding the above, access also may be gained under the following condition.

In the event that a system of records maintained by this agency to carry out its functions indicates a violation or potential violation of law, whether civil, criminal, or regulatory in nature, and whether arising by general statute or particular program statute, or by regulation, rule, or order issued pursuant thereto, the relevant records in the system of records may be referred, as a routine use, to the appropriate agency, whether federal, state, local, or foreign, charged with the responsibility of investigating or prosecuting such violation or charged with enforcing or implementing the states, or rule, regulation, or order issued pursuant thereto.

Policies and practices for storing, retrieving, accessing, retaining, and disposing of records in the system:

Storage:

Electronic database.

Irretrievability:

By personal or corporate name; place of employment, state, zip code, or country; materials requested; and employment status with the Board.

Safeguards:

Access is limited to Board staff members having a need to know.

Retention and disposal:

Contacts on the mailing list are sent periodic requests to update their records and to determine if they want to remain on the mailing list. Nonrespondent and all asking to be deleted are purged from the list. Other contracts are revised if their information changes or if they no longer work in a field of interest.

System manager and address:

U.S. Nuclear Waste Technical Review Board, 2300 Clarendon Boulevard, suite 1300; Arlington, VA 22201; Attention: Office of Administration.

Notification procedures:

Requests by an individual to determine if NWTRB-2 contains information about him/her should be directed to the Director of Administration, at the address listed above. Required identifying information: complete name and address.

Record-access procedure:

Some as notification procedure above, except individual must show official photo identification before viewing records.

Contesting-record procedure:

Same as notification procedure.

Record-source categories:

Statutory reporting authority, and requests from individuals to be placed on a distribution list for information from the Board. Contact information supplied by vendors, other agencies, and groups.

System exempted from certain provisions of the Act:

None.

Dated: November 17, 2006.
William D. Barnard,
Executive Director, U.S. Nuclear Waste Technical Review Board.

[FR Doc. 06-9349 Filed 11-21-06; 8:45 am]

BILLING CODE 6820-AM-M